DEPARTMENT OF COMMERCE

International Trade Administration

[A-475-828, A-557-809, A-565-801]

Continuation of Antidumping Duty Orders: Stainless Steel Butt-Weld Pipe Fittings from Italy, Malaysia, and the Philippines

AGENCY: Import Administration, International Trade Administration, Department of Commerce.

SUMMARY: As a result of the determinations by the Department of Commerce (the Department) and the International Trade Commission (the Commission) that revocation of these antidumping duty orders would be likely to lead to continuation or recurrence of dumping and material injury to an industry in the United States, pursuant to section 751(c) of the Tariff Act of 1930, as amended (the Act), the Department hereby orders the continuation of the antidumping duty orders on stainless steel butt-weld pipe fittings from Italy, Malaysia, and the Philippines. The Department is publishing notice of the continuation of these antidumping duty orders.

EFFECTIVE DATE: December 11, 2006.

FOR FURTHER INFORMATION CONTACT: Deborah L. Scott or Robert James, AD/CVD Operations, Office 7, or Dana Mermelstein, AD/CVD Operations, Office 6, Import Administration, International Trade Administration, U.S. Department of Commerce, 14th Street and Constitution Ave., NW, Washington, DC 20230; telephone: (202) 482-2657, 482-0649, or (202) 482-1391, respectively.

SUPPLEMENTARY INFORMATION:

Background

On January 3, 2006, the Department initiated and the Commission instituted sunset reviews of the antidumping duty orders on stainless steel butt-weld pipe fittings from Italy, Malaysia, and the Philippines pursuant to section 751(c) of the Act. See Initiation of Five-year (“Sunset”) Reviews, 71 FR 91 (January 3, 2006) and Stainless Steel Butt-Weld Pipe Fittings From Italy, Malaysia, and the Philippines, 71 FR 140 (January 3, 2006). As a result of its review, the Department found that revocation of the antidumping duty orders would likely lead to continuation or recurrence of dumping and notified the Commission of the magnitude of the margins likely to prevail if the orders were revoked. Steel Butt-Weld Pipe Fittings from Italy, Malaysia, and the Philippines; Final Results of the Expedited Five-year (“Sunset”) Reviews of Antidumping Duty Orders, 71 FR 26748 (May 8, 2006).

On October 31, 2006, the Commission determined, pursuant to section 751(c) of the Act, that revocation of the antidumping duty orders on stainless steel butt-weld pipe fittings from Italy, Malaysia, and the Philippines would likely lead to continuation or recurrence of material injury to an industry in the United States within a reasonably foreseeable time. See Certain Stainless Steel Butt-Weld Pipe Fittings From Italy, Malaysia, and the Philippines, 71 FR 67904 (November 24, 2006), and USITC Publication 3889 (November 2006) (Inv. Nos. 731-TA-865-867 (Review)).

Scope of the Orders

For purposes of these orders, the product covered is certain stainless steel butt-weld pipe fittings (butt-weld fittings). Butt-weld pipe fittings are under 14 inches in outside diameter (based on nominal pipe size), whether finished or unfinished. The product encompasses all grades of stainless steel and “commodity” and “specialty” fittings. Specifically excluded from the definition are threaded, grooved, and bolted fittings, and fittings made from any material other than stainless steel.

The butt-weld fittings subject to these orders are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Butt-weld fittings manufactured to specification ASTM A774, or its foreign equivalents, are also covered by these orders.

These orders do not apply to cast fittings. Cast austenitic stainless steel pipe fittings are covered by specifications A351/A351M, A743/743M, and A744/A744M.

The butt-weld fittings subject to these orders are currently classifiable under subheading 7307.23.0000 of the Harmonized Tariff Schedule of the United States (HTSUS). Although the HTSUS subheadings are provided for convenience and customs purposes, the written description of the scope of these orders is dispositive.

Determination

As a result of the determinations by the Department and the Commission that revocation of these antidumping duty orders would be likely to lead to continuation or recurrence of dumping and material injury to an industry in the United States, pursuant to section 751(d)(2) of the Act, the Department hereby orders the continuation of the antidumping duty orders on stainless steel butt-weld pipe fittings from Italy, Malaysia, and the Philippines.

U.S. Customs and Border Protection will continue to collect antidumping duty deposits at the rates in effect at the time of entry for all imports of subject merchandise from all manufacturers and exporters of stainless steel butt-weld pipe fittings from Italy, Malaysia, and the Philippines. The effective date of continuation of these orders is the date of publication in the Federal Register of this Notice of Continuation. The Department intends to initiate the next five-year review of these antidumping orders not later than 30 days prior to the fifth anniversary of the effective date of continuation.

These sunset reviews and this continuation notice are in accordance with section 751(c) of the Act. This notice is published pursuant to 777(i) of the Act and 19 CFR 351.218(f)(4).

Dated: December 1, 2006.
David M. Spooner,
Assistant Secretary for Import Administration.

[FR Doc. E6-20925 Filed 12-8-06; 8:45 am]

BILLING CODE 3510-DS-S